DEPARTMENT OF TRANSPORTATION

Surface Transportation Board

[Docket No. FD 35551]

Coos Bay Railroad Operating Company, LLC d/b/a Coos Bay Rail Link—Operation Exemption—Line of Railroad Owned by the Oregon International Port of Coos Bay

Coos Bay Railroad Operating Company, LLC d/b/a Coos Bay Rail Link (CBR), a noncarrier, has filed a verified notice of exemption under 49 CFR 1150.31 to operate 2 segments of railroad totaling approximately 133 miles of rail line owned by Oregon International Port of Coos Bay (the Port). The segments consist of: (1) A rail line extending between milepost 652.114 at Danebo, Or., and milepost 763.13 at Cordes, Or. (Coos Bay Line) and (2) a rail line extending between the junction with the Coos Bay Line at milepost 761.13 at Cordes, and milepost 785.5 at Coquille, Or. (Coquille Branch).

This transaction is related to a concurrently filed verified notice of exemption in Docket No. FD 35550, American Railroad Group Transportation Services, LLC d/b/a ARG Trans—Continuance in Control Exemption—Coos Bay Railroad Operating Company, LLC d/b/a Coos Bay Rail Link, wherein American Railroad Group Transportation Services, LLC, CBR's corporate parent, seeks Board approval to continue in control of CBR, upon CBR's becoming a Class III rail carrier.

According to CBR, the transaction is expected to be consummated on or about October 1, 2011, after the September 28, 2011 effective date of the notice (30 days after the notice of exemption was filed).

CBR certifies that its projected annual revenues will not exceed $5 million and as a result of this transaction will not result in its becoming a Class II or Class I rail carrier.

If the verified notice contains false or misleading information, the exemption is void ab initio. Petitions to revoke the exemption under 49 U.S.C. 10502(d) may be filed at any time. The filing of a petition to revoke will not automatically stay the effectiveness of the exemption. Petitions to stay must be filed no later than September 21, 2011 (at least 7 days before the exemption becomes effective).

An original and 10 copies of all pleadings, referring to Docket No. FD 35551, must be filed with the Surface Transportation Board, 395 E Street, SW., Washington, DC 20423-0001. In addition, a copy of each pleading must be served on John D. Heffner, 1750 K St., NW., Suite 200, Washington, DC 20006.

Board decisions and notices are available on our Web site at http://www.stb.dot.gov.

Decided: September 9, 2011.
By the Board.
Rachel D. Campbell.
Director, Office of Proceedings.

[FR Doc. 2011-23495 Filed 9-13-11; 8:45 am]

BILLING CODE 4915-01-P